OFFICE OF PERSONNEL MANAGEMENT

Excepted Service

AGENCY: Office of Personnel Management (OPM).

ACTION: Notice.

SUMMARY: This notice identifies Schedule A, B, and C appointing authorities applicable to a single agency that were established or revoked from March 1, 2021 to March 31, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during March 2021.

Schedule B

04. Department of State (Sch. B, 213.3204)

(g) Not to exceed 100 positions in the Bureau of Intelligence and Research (INR) at the GS-5 through GS-15 levels in the following occupational series GS-0080 Security Administration, GS-0110 Economics, GS-0130 Foreign Affairs, GS-0132 Intelligence, GS-0150 Geography, GS-0343 Management and Program Analysis, GS-1083 Technical Writing and Editing, GS-1370 Cartography, and GS-1530 Statistics. This authority may be used to make time-limited appointments of up to 48 months. No new appointments may be made after March 31, 2023 or when INR transitions to appointments under 50 U.S.C. 3024(v) whichever comes first.

Schedule C

The following Schedule C appointing authorities were approved during March 2021.

Agency name | Organization name | Position title | Authorization No. | Effective date
DEPARTMENT OF AGRICULTURE | Office of Small and Disadvantaged Business Utilization | Director | DA160124 | 03/18/2021
DEPARTMENT OF COMMERCE | Office of Business Liaison | Special Assistant | DC210093 | 03/26/2021
| Office of Legislative and Intergovernmental Affairs | Director of Legislative and Intergovernmental Affairs | DC210088 | 03/09/2021
| Office of the Chief of Staff | Director of Scheduling and Advance | DC210092 | 03/18/2021
|  | Confidential Assistant | DC210096 | 03/26/2021
| Office of the Deputy Secretary | Special Assistant | DC210094 | 03/26/2021
| Office of the Secretary | Special Assistant | DC210091 | 03/18/2021
DEPARTMENT OF DEFENSE | Office of the Secretary of Defense | Deputy White House Liaison | DD210210 | 03/10/2021
DEPARTMENT OF EDUCATION | Office of Communications and Outreach | Confidential Assistant(2) | DB210076 DB210077 | 03/25/2021 03/31/2021
DEPARTMENT OF ENERGY | Office of Public Affairs | Speechwriter | DE210091 | 03/10/2021
| Office of the Secretary | Deputy Chief of Staff | DE210092 | 03/12/2021
| Office of the Assistant Secretary for Congressional and Intergovernmental Affairs | Deputy Assistant Secretary for House Affairs | DE210090 | 03/22/2021
ENVIRONMENTAL PROTECTION AGENCY | Office of Public Affairs | Special Advisor for Digital Strategy | EP210086 | 03/24/2021
FEDERAL TRADE COMMISSION | Office of the Chairman | Director, Office of Public Affairs | FT210007 | 03/15/2021
DEPARTMENT OF HEALTH AND HUMAN SERVICES | Office of Substance Abuse and Mental Health Services Administration | Senior Advisor | DH210143 | 03/02/2021
| Office of the Assistant Secretary for Public Affairs | Deputy Speechwriter | DH210139 | 03/03/2021
| Office of Global Affairs | Senior Advisor, Human Rights and Gender Equity | DH210141 | 03/03/2021
| Office of the Assistant Secretary for Preparedness and Response | Special Assistant Senior Policy Advisor | DH210142 DH210148 | 03/03/2021 03/04/2021
| Office of the Secretary | Director of Scheduling and Advance | DH210150 | 03/16/2021
DEPARTMENT OF HOMELAND SECURITY | Cybersecurity and Infrastructure Security Agency | Senior Advisor for Public Affairs | DM210209 | 03/11/2021
| Federal Emergency Management Agency | Special Assistant Chief of Staff | DM210258 | 03/30/2021
| Office of Legislative Affairs | Legislative Affairs Director | DM210213 | 03/16/2021
| Office of Partnership and Engagement | Executive Director, Homeland Security Advisory Council | DM210214 | 03/10/2021
| Office of Public Affairs | Director of Strategic Communications | DM210223 | 03/30/2021
| Office of Strategy, Policy, and Plans | Policy Advisor | DM210211 | 03/16/2021
| United States Customs and Border Protection | Senior Advisor to Commissioner | DM210220 | 03/08/2021
| United States Immigration and Customs Enforcement | Assistant Director, Office of Public Affairs | DM210179 | 03/10/2021
| Office of the Secretary | Deputy White House Liaison | DM210181 | 03/11/2021
|  | Director of Legislative Affairs | DM210224 | 03/11/2021
|  | Director of Trips and Advance | DM210225 | 03/12/2021
|  | Special Assistant, White House Liaison | DM210253 | 03/30/2021
|  | Deputy Secretary's Briefing Book Coordinator | DM210256 | 03/30/2021
|  | Secretary's Briefing Book Coordinator | DM210259 | 03/30/2021
| United States Citizenship and Immigration Services | Senior Advisor, External Affairs | DM210240 | 03/22/2021
| United States Customs and Border Protection | Advisor to the Chief of Staff | DM210239 | 03/22/2021
| United States Immigration and Customs Enforcement | Deputy Chief of Staff | DM210175 | 03/12/2021
DEPARTMENT OF HOUSING AND URBAN DEVELOPMENT | Office of Public Affairs | Director of Speechwriting | DU210054 | 03/18/2021
DEPARTMENT OF THE INTERIOR | Secretary's Immediate Office | Speechwriter Deputy Press Secretary | DI210046 DI210108 | 03/11/2021 03/26/2021
DEPARTMENT OF JUSTICE | Office of the Attorney General | Confidential Assistant Special Assistant | DJ210097 DJ210098 | 03/03/2021 03/03/2021
DEPARTMENT OF LABOR | Office of the Secretary | Advisor for Private Sector Engagement | DL210076 | 03/24/2021
| Office of Public Affairs | Speechwriter | DL210077 | 03/24/2021
NATIONAL CREDIT UNION ADMINISTRATION | Office of the Board | Staff Assistant Senior Policy Advisor | CU200004 CU210004 | 03/03/2021 03/03/2021
| Office of the Chairman | Chief of Staff Confidential Assistant | CU210003 CU210005 | 03/03/2021 03/03/2021
|  | Director, Office of External Affairs and Communications/Deputy Chief of Staff | CU210006 | 03/09/2021
NATIONAL LABOR RELATIONS BOARD | Office of the Board Members | Director Congressional and Public Affairs Officer | NL210002 | 03/02/2021
|  | Press Secretary | NL210003 | 03/02/2021
OFFICE OF MANAGEMENT AND BUDGET | Office of E-Government and Information Technology | Senior Advisor for Technology and Delivery (Cybersecurity) | BO210062 | 03/02/2021
OFFICE OF PERSONNEL MANAGEMENT | Office of Communications | Deputy Director | PM210044 | 03/09/2021
| Office of the Congressional, Legislative and Intergovernmental Affairs | Deputy Director | PM210048 | 03/23/2021
OFFICE OF SCIENCE AND TECHNOLOGY POLICY | Office of Science and Technology Policy | Director of Communications | TS210005 | 03/02/2021
DEPARTMENT OF STATE | Office of the Chief of Protocol | Assistant Chief of Protocol (Diplomatic Partnerships) | DS210145 | 03/16/2021
DEPARTMENT OF TRANSPORTATION | Office of Executive Secretariat | Special Assistant | DT210062 | 03/04/2021
| Office of Public Affairs | Deputy Director for Public Affairs | DT210063 | 03/04/2021
|  | Speechwriter (2) | DT210065 DT210066 | 03/25/2021 03/31/2021
| Office of the Deputy Secretary | Special Assistant for Scheduling | DT210067 | 03/31/2021
| Office of the Secretary | Director of Advance | DT210064 | 03/12/2021
DEPARTMENT OF THE TREASURY | Secretary of the Treasury | Senior Advisor to the Deputy Secretary | DY210076 | 03/12/2021
| Office of the Assistant Secretary (Legislative Affairs) | Special Assistant | DY210078 | 03/12/2021
DEPARTMENT OF VETERANS AFFAIRS | Office of the Secretary and Deputy | Special Assistant to the Deputy Chief of Staff/White House Liaison | DV210056 | 03/23/2021

The following Schedule C appointing authorities were revoked during March 2021.

Agency name | Organization name | Position title | Authorization No. | Effective date
COMMODITY FUTURES TRADING COMMISSION | Office of Public Affairs | Public Affairs and Digital Engagement Strategist | CT200001 | 03/05/2021
| Office of the Chairperson | Senior Advisor | CT190006 | 03/12/2021
DEPARTMENT OF AGRICULTURE | Office of the Under Secretary for Farm Production and Conservation | Senior Advisor | DA210055 | 03/27/2021
| Office of the Under Secretary for Rural Development | Senior Advisor | DA210058 | 03/27/2021
| Office of Communications | Director of Scheduling and Advance | DA210059 | 03/13/2021
|  | Scheduler | DA210063 | 03/13/2021
DEPARTMENT OF THE INTERIOR | Secretary's Immediate Office | Senior Counselor to the Secretary (3) | DI210029 DI210032 DI210035 | 03/13/2021 03/13/2021 03/13/2021
|  | Senior Advisor to the Secretary | DI210061 | 03/13/2021
DEPARTMENT OF VETERANS AFFAIRS | Office of the Secretary and Deputy | White House Liaison | DV210028 | 03/13/2021
DEPARTMENT OF THE ARMY | Office of the Secretary | Special Assistant to the Chief of Staff, Secretary of the Army | DW210011 | 03/14/2021
DEPARTMENT OF EDUCATION | Office of the General Counsel | Senior Counsel | DB210034 | 03/31/2021
DEPARTMENT OF JUSTICE | Executive Office for United States Attorneys | Secretary | DJ190082 | 03/12/2021
DEPARTMENT OF STATE | Office of the Secretary | Assistant Chief of Protocol (Diplomatic Partnerships) | DS210137 | 03/16/2021
EQUAL EMPLOYMENT OPPORTUNITY COMMISSION | Office of General Counsel | Executive Staff Assistant | EE190006 | 03/19/2021
OFFICE OF PERSONNEL MANAGEMENT | Office of Communications Office of Congressional, Legislative, and Intergovernmental Affairs | Deputy Director Deputy Director | PM210033 PM210031 | 03/08/2021 03/22/2021
OCCUPATIONAL SAFETY AND HEALTH REVIEW COMMISSION | Office of Commissioners | Counsel | SH210003 | 03/23/2021
DEPARTMENT OF STATE | Office of the Secretary | Senior Advisor | DS210086 | 03/24/2021
|  | Deputy Assistant Secretary (9) | DS210073 DS210126 DS210106 DS210041 DS210065 DS210039 DS210059 | 03/27/2021 03/27/2021 03/27/2021 03/27/2021 03/27/2021 03/27/2021 03/27/2021
|  |  | DS210107 DS210122 | 03/27/2021 03/27/2021
|  | Principal Deputy Director | DS210048 | 03/27/2021
|  | Senior Advisor | DS210047 | 03/27/2021
|  | Senior Policy Advisor | DS210091 | 03/27/2021
|  | Spokesperson | DS210095 | 03/27/2021
SOCIAL SECURITY ADMINISTRATION | Office of Retirement and Disability Policy | Senior Advisor to the Deputy Commissioner | SZ180021 | 03/27/2021

(Authority: 5 U.S.C. 3301 and 3302; E.O. 10577, 3 CFR, 1954-1958 Comp., p. 218.)

Office of Personnel Management.
Alexys Stanley,
Regulatory Affairs Analyst.

[FR Doc. 2022-04616 Filed 3-3-22; 8:45 am]

BILLING CODE 6325-39-P